SMALL BUSINESS ADMINISTRATION

[Declaration of Disaster #3554]

Commonwealth of Kentucky

Franklin County and the contiguous counties of Anderson, Henry, Owen, Scott, Shelby and Woodford constitute a disaster area due to damages caused by severe thunderstorms that occurred on August 22, 2003. Applications for loans for physical damage may be filed until the close of business on December 15, 2003 and for economic injury until the close of business on July 15, 2004 at the address listed below or other locally announced locations: U.S. Small Business Administration, Disaster Area 2 Office, One Baltimore Place, Suite 300, Atlanta, GA 30308.

The interest rates are:

| Percent
For Physical Damage:
Homeowners with Credit Available Elsewhere: | 5.125
Homeowners Without Credit Available Elsewhere: | 2.562
Businesses with Credit Available Elsewhere: | 6.199
Businesses and Non-Profit Organizations Without Credit Available Elsewhere: | 3.100
Others (Including Non-Profit Organizations) with Credit Available Elsewhere: | 5.500
For Economic Injury:
Businesses and Small Agricultural Cooperatives Without Credit Available Elsewhere: | 3.100

The number assigned to this disaster for physical damage is 355411 and for economic injury the number assigned is 9X3200.

(Catalog of Federal Domestic Assistance Program Nos. 59002 and 59008.)
Dated: October 15, 2003.
Hector V. Barreto,
Administrator.

[FR Doc. 03-26699 Filed 10-22-03; 8:45 am]

BILLING CODE 8025-01-P